DEPARTMENT OF COMMERCE

International Trade Administration

Oregon Health and Science University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 13-001. Applicant: Oregon Health and Science University, Portland, OR 97239. Instrument: Electron Microscope. Manufacturer: FEI Company, the Netherlands. Intended Use: See notice at 78 FR 13860-61, March 1, 2013.

Docket Number: 13-003. Applicant: Howard Hughes Medical Institute, Chevy Chase, MD 20815. Instrument: Electron Microscope. Manufacturer: FEI, the Netherlands. Intended Use: See notice at 78 FR 13860-61, March 1, 2013.

Docket Number: 13-004. Applicant: Georgia Institute of Technology, Atlanta, GA 30332. Instrument: Electron Microscope. Manufacturer: Hitachi High-Technologies Corp., Japan. Intended Use: See notice at 78 FR 13860-61, March 1, 2013.

Docket Number: 13-005. Applicant: Case Western Reserve University, Cleveland, OH 44106-4965. Instrument: Electron Microscope. Manufacturer: JEOL Ltd., Japan. Intended Use: See notice at 78 FR 13860-61, March 1, 2013.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: August 15, 2013.
Gregory W. Campbell,
Director, Subsidies Enforcement Office, Import Administration.

[FR Doc. 2013-20632 Filed 8-22-13; 8:45 am]

BILLING CODE 3510-DS-P